DEPARTMENT OF COMMERCE

U.S. Census Bureau

Agency Information Collection Activities; Submission to the Office of Management and Budget (OMB) for Review and Approval; Comment Request; Household Pulse Survey

On September 12, 2022, the Department of Commerce received clearance from the Office of Management and Budget (OMB) in accordance with the Paperwork Reduction Act of 1995 to conduct Phase 3.6 of the Household Pulse Survey (OMB No. 0607-1013, Exp. 10/31/23). The Household Pulse Survey was designed to meet a need for timely information associated with household experiences during the Covid-19 pandemic. The Department is committed to ensuring that the data collected by the Household Pulse Survey continue to meet information needs as they may evolve over the course of the pandemic. This notice serves to inform of the Department's intent to request clearance from OMB to make some revisions to the Household Pulse Survey questionnaire. To ensure that the data collected by the Household Pulse Survey continue to meet information needs as they evolve over the course of the pandemic, the Census Bureau submits this Request for Revision to an Existing Collection for a revised Phase 3.7 questionnaire.

Phase 3.7 includes new questions on changes in travel and spending due to increasing prices, school meals, displacement due to natural disaster, receipt/loss of Medicaid coverage, and a question that asks certain respondents if they are not working due to coronavirus, natural disaster, or another reason. There are also modifications to existing vaccine booster, children's vaccine booster, infant formula, reasons not working, and inflation items. Several questions will be removed for Phase 3.7, including replaced children's vaccine booster items, and questions about educational catch-up activities and the receipt of antiviral/antibody treatments.

It is the Department's intention to commence data collection using the revised instrument on or about December 7, 2022. The Department invites the general public and other Federal agencies to comment on proposed, and continuing information collections, which helps us assess the impact of our information collection requirements and minimize the public's reporting burden. Public comments were previously sought on the Household Pulse Survey via the Federal Register on May 19, 2020, June 3, 2020, February 1, 2021, April 13, 2021, June 24, 2021, October 26, 2021, January 24, 2022, April 18, 2022, and July 2, 2022. This notice allows for an additional 30 days for public comments on the proposed revisions.

Agency: U.S. Census Bureau, Department of Commerce.

Title: Household Pulse Survey.

OMB Control Number: 0607-1013.

Form Number(s): None.

Type of Request: Request for a Revision of a Currently Approved Collection.

Number of Respondents: 136,779.

Average Hours per Response: 20 minutes.

Burden Hours: 45,137.

Needs and Uses: Data produced by the Household Pulse Survey are designed to inform on a range of topics related to households' experiences during the COVID-19 pandemic. Topics to date have included employment, facility to telework, travel patterns, income loss, spending patterns, food and housing security, amount of monthly rent and changes in monthly rent, access to benefits, mental health and access to care, difficulty with self-care and communicating, intent to receive the COVID-19 vaccine/booster, timing of coronavirus testing, use of coronavirus treatments, the experience of long COVID, post-secondary educational disruption, access to infant formula, the effects of increasing prices, natural disasters, and school meals for children. The requested revision, if approved by OMB, will remove selected items from the questions for which utility has declined and add questions based on information needs expressed via public comment and in consult with other Federal agencies. The overall burden change to the public will be insignificant.

The Household Pulse Survey was initially launched in April, 2020 as an experimental project (see https://www.census.gov/data/experimental-data-products.html) under emergency clearance from the Office of Management and Budget (OMB) initially granted April 19, 2020; regular clearance was subsequently sought and approved by OMB on October 30, 2020 (OMB No. 0607-1013; Exp. 10/30/2023).

Affected Public: Households.

Frequency: Households will be selected once to participate in a 20-minute survey.

Respondent's Obligation: Voluntary.

Legal Authority: Title 13, United States Code, Sections 8(b), 182 and 196.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1013.

Sheleen Dumas,
Department PRA Clearance Officer, Office of the Chief Information Officer, Commerce Department.

[FR Doc. 2022-24575 Filed 11-9-22; 8:45 am]

BILLING CODE 3510-07-P